DEPARTMENT OF THE INTERIOR

Bureau of Land Management

[16X.LLID9570000.L14400000.BJ0000.241A.X.4500081115]

Idaho: Filing of Plats of Survey

AGENCY: Bureau of Land Management, Interior.

ACTION: Notice of filing of plats of surveys.

SUMMARY: The Bureau of Land Management (BLM) has officially filed the plats of survey of the lands described below in the BLM Idaho State Office, Boise, Idaho, effective 9:00 a.m., on the dates specified.

FOR FURTHER INFORMATION CONTACT: Bureau of Land Management, 1387 South Vinnell Way, Boise, Idaho, 83709-1657.

SUPPLEMENTARY INFORMATION: These surveys were executed at the request of the Bureau of Land Management to meet their administrative needs. The lands surveyed are:

The plat, in four sheets constituting the entire record of the dependent resurvey of portions of the west boundary, north boundary and subdivisional lines, and the subdivision of sections 6, 10, and 32, T. 10 S., R. 2 W., of the Boise Meridian, Idaho, Group Number 1339, was approved July 7, 2015.

The supplemental plat was prepared to show new lots 16 and 17 in sec. 13, T. 43 N., R. 3 W., Boise Meridian, Idaho, Group Number 1444, was accepted July 9, 2015.

The plat representing the dependent resurvey of a portion of the subdivisional lines, and the survey of the 2013 right bank meanders of the Spokane River in sections 7 and 8, and certain metes-and-bounds survey in sections 7 and 8, T. 50 N., R. 4 W., Boise Meridian, Idaho, Group Number 1409, was accepted July 15, 2015.

Gordon M. Dress,
Acting Chief Cadastral Surveyor for Idaho.

[FR Doc. 2015-25763 Filed 10-8-15; 8:45 am]

BILLING CODE 4310-GG-P